DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking regular clearance of the following currently approved information collection activities granted under Emergency Clearance procedures. Before submitting these information collection requirements for clearance by the Office of Management and Budget (OMB), FRA is soliciting public comment on specific aspects of the activities identified below.

DATES: Comments must be received no later than May 9, 2008.

ADDRESSES: Submit written comments on any or all of the following proposed activities by mail to either: Mr. Robert Brogan, Office of Safety, Planning and Evaluation Division, RRS-21, Federal Railroad Administration, 1200 New Jersey Ave., SE., Mail Stop 25, Washington, DC 20590, or Ms. Gina Christodoulou, Office of Support Systems Staff, RAD-43, Federal Railroad Administration, 1200 New Jersey Ave., SE., Mail Stop 35, Washington, DC 20590. Commenters requesting FRA to acknowledge receipt of their respective comments must include a self-addressed stamped postcard stating, “Comments on OMB control number 2130-0575.” Alternatively, comments may be transmitted via facsimile to (202) 493-6216 or (202) 493-6497, or via e-mail to Mr. Brogan at robert.brogan@dot.gov or to Ms. Christodoulou at gina.christodoulou@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave., SE., Mail Stop 25, Washington, DC 20590 (telephone: (202) 493-6292) or Ms. Gina Christodoulou, Office of Support Systems Staff, RAD-43, Federal Railroad Administration, 1200 New Jersey Ave., SE., Mail Stop 35, Washington, DC 20590 (telephone: (202) 493-6139). (These telephone numbers are not toll-free.)

SUPPLEMENTARY INFORMATION: The Paperwork Reduction Act of 1995 (PRA), Public Law 104-13, section 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved information collection activities that FRA will submit for clearance by OMB as required under the PRA:

Title: Solicitation of Applications and Notice of Funds Availability for the Capital Assistance to States—Intercity Rail Service Program.

OMB Control Number: 2130-0575.

Abstract: On December 16, 2007, President Bush signed Public Law 110-161, The Transportation, Housing and Urban Development, and Related Agencies Appropriations Act, 2008. As part of this Act, Congress provided $30 million to FRA to award in one or more grants for eligible projects related to capital improvements (fixed facilities and rolling stock) necessary to support improved or new intercity passenger services, and planning activities that lead to the development of a passenger rail corridor investment plan. Funds provided under this grant program may constitute no more than 50 percent of the total cost of a selected project, with the remaining cost funded from other sources. The funding provided under these grants will be made available to grantees on a reimbursement basis.

FRA anticipates awarding grants to multiple eligible participants. FRA may choose to award a grant or grants within the available funds in any amount. Funding made available through grants provided under this program, together with funding from other sources that is committed by a grantee as part of a grant agreement, must be sufficient to complete the funded project and achieve the anticipated improvement to intercity passenger rail service. FRA will begin accepting grant applications on Monday, March 18, 2008. Applications may be submitted until the earlier of Wednesday, September 30, 2009, or the date on which all available funds will have been committed under this program.

Form Number(s): SF-269, SF-270, SF-271.

Affected Public: States/Their Partners.

Respondent Universe: 50 States and District of Columbia/Their Partners.

Frequency of Submission: One-time.

Reporting Burden:

CFR section | Respondent universe | Total annual responses | Average time per response | Total annual burden hours | Total annual burden cost
Application Process | 51 States (DC incl.) | 7 applications | 600 hours | 4,200 hours | $367,780
Requested Meeting with FRA | 51 States (DC incl.) | 5 requests/letters | 30 minutes | 3 hours | 129
Actual Meetings | 51 States (DC incl.) | 5 meetings | 2 hours | 10 hours | 730
Revisions to Grant Applications | 51 States (DC incl.) | 2 appl. Revisions | 40 hours | 80 hours | 5,840
Environmental Assessment | 51 States (DC incl.) | 7 Env. Documents | 200 hours | 1,400 hours | 175,000
Consultations with FRA | 51 States (DC incl.) | 7 consultations | 2 hours | 14 hours | 1,022
Close-Out Procedures | 51 States (DC incl.) | 7 sets of documents | 6 hours | 42 hours | 1,806
Project Reports | 51 States (DC incl.) | 7 reports | 80 hours | 560 hours | 40,880

Total Responses: 47.

Estimated Total Annual Burden: 6,309 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on March 5, 2008.
Brenda Horn,
Acting Director, Office of Financial Management, Federal Railroad Administration.

[FR Doc. E8-4705 Filed 3-7-08; 8:45 am]

BILLING CODE 4910-06-P